DEPARTMENT OF JUSTICE

Notice of Filing of Proposed Settlement Agreement Regarding Environmental Claims in Connection With Franklin Smelting/Slag Site, Safety Light Corp. Site, Cleancare Corp. Site, and Portland Harbor Site

On May 11, 2017, a Notice of Motion was filed in the Superior Court for the State of California for the County of Los Angeles in the proceeding entitled Dave Jones, Insurance Commissioner of the State of California v. Mission Insurance Company, et al., Case No. C 572 724. The Motion will seek court approval of a Settlement Agreement between Dave Jones, Insurance Commissioner of the State of California, in his capacity as Trustee (the “Trustee”) of the Mission Insurance Company Trust and the Mission National Insurance Company Trust (the “Mission Trusts”), and the United States Department of the Interior (“DOI”), Environmental Protection Agency (“EPA”), and National Oceanic and Atmospheric Agency (“NOAA”) (collectively referred to as “the Federal Claimants”), acting by and through the United States Department of Justice (“DOJ”).

The Settlement Agreement would resolve claims by the Federal Claimants under Section 107 of the Comprehensive Environmental Response, Compensation, and Liability Act (“CERCLA”), 42 U.S.C. 9607, involving insured parties in connection with four Superfund Sites: (1) The Franklin Smelting and Franklin Slag Sites in Philadelphia, Pennsylvania (Franklin Smelting and Refining Company, et al.); the Safety Light Corporation Site in Bloomsburg, Pennsylvania (United States Radium Corp. and USR Industries, Inc., et al.); the CleanCare Corporation Site in Tacoma, Washington (Lilyblad Petroleum, Inc.); and the Portland Harbor Site (Linnton Plywood Association). The Federal Claimants filed proof of claims in the instant proceeding against the Mission Trusts arising from policies of insurance that Mission companies had issued to the parties liable for contamination at these four Sites.

Under the Settlement Agreement, the Mission Trusts will pay to the United States $28.6 million to be allocated to accounts respecting the four Superfund Sites as follows:

a. $11,914,658.58 shall be paid with respect to the Franklin Smelting Superfund Site and the Franklin Slag Superfund Site.

b. $7,113,598.90 shall be with respect to the Safety Light Corporation Superfund Site in Bloomsburg, PA.

c. $284,543.96 shall be paid with respect to the CleanCare Corporation Superfund Site in Tacoma, WA.

d. $9,287,198.56 shall be with respect to the Portland Harbor Superfund Site in Portland, OR. This amount shall be divided between EPA and DOI and NOAA as follows: $6,965,398.92 to EPA, and $2,321,799.64 to DOI and NOAA.

In consideration of this payment, upon approval of the Settlement Agreement the Federal Claimants covenant not to file a civil action against the Trustee, the Mission Trusts and the various California courts involved in the liquidation proceeding involving the Mission Trusts. The Settlement Agreement is conditioned upon court approval for a super-priority release of the Trustee under 31 U.S.C. 3713, the Federal Priorities Statute. The Trustee will appear at a hearing to present the motion seeking approval the Settlement Agreement on June 22, 2017, at 8:30 a.m. in Department 50 of the Stanley Mosk Courthouse, 111 North Hill Street, Floor 5, Room 508, Los Angeles, California 90012.

The publication of this notice opens a period for public comment on the Settlement Agreement. Comments should be addressed to the Assistant Attorney General, Environment and Natural Resources Division, and should refer to Dave Jones, Insurance Commissioner of the State of California v. Mission Insurance Company, et al., D.J. Ref. No. 90-11-3-10711. All comments must be submitted no later than twenty-one (21) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined and downloaded at this Justice Department Web site: https://www.justice.gov/enrd/consent-decrees. Alternatively, a paper copy of the Settlement Agreement will be provided upon written request and payment of reproduction costs. Please mail your request and payment to: Consent Decree Library, U.S. DOJ—ENRD, P.O. Box 7611, Washington, DC 20044-7611.

Please enclose a check or money order for $2.75 (25 cents per page reproduction cost) payable to the United States Treasury.

Robert Brook,
Assistant Section Chief, Environmental Enforcement Section, Environment and Natural Resources Division.

[FR Doc. 2017-10013 Filed 5-17-17; 8:45 am]

BILLING CODE 4410-15-P